DEPARTMENT OF ENERGY

Federal Energy Regulatory Commission

[Docket No. IC19-22-000]

Commission Information Collection Activities; (FERC Form Nos. 1, 1-F, and 3-Q); Comment Request; Extensions

AGENCY: Federal Energy Regulatory Commission, DOE.

ACTION: Notice of information collections and request for comments.

SUMMARY: In compliance with the requirements of the Paperwork Reduction Act of 1995 (PRA), the Federal Energy Regulatory Commission (Commission or FERC) is soliciting public comment on the currently approved information collections, FERC Form Nos. 1 (Annual Report of Major Electric Utilities, Licensees, and Others), 1-F (Annual Report for Nonmajor Public Utilities and Licensees), and 3-Q (Quarterly Financial Report of Electric Utilities, Licensees, and Natural Gas Companies).

DATES: Comments on the collections of information are due July 8, 2019.

ADDRESSES: You may submit comments (identified by Docket No. IC19-22-000) by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extensions of the FERC Form Nos. 1, 1-F, and 3-Q with no changes to the current reporting requirements.¹

¹ FERC Form Nos. 1, 1-F, and 3-Q (electric and natural gas) are part of the “Forms Refresh” effort, which is a separate activity and not addressed here. See Revisions to the Filing Process for Commission Forms, 166 FERC ¶ 61,027 (2019) (started in Docket No. AD15-11 and ongoing in Docket No. RM19-12). (OMB issued its decisions on the proposed changes in the Forms Refresh Notice of Proposed Rulemaking in Docket No. RM19-12 on March 14, 2019.)

FERC Form No. 1, Annual Report of Major Electric Utilities, Licensees, and Others

OMB Control No.: 1902-0021.

Abstract: The FERC Form No. 1 is a comprehensive financial and operating report submitted annually for electric rate regulation, market oversight analysis, and financial audits by Major electric utilities, licensees and others. Major is defined as having in each of the last three consecutive calendar years, sales or transmission services that exceed one of the following: (1) One million megawatt-hours of total sales; (2) 100 megawatt-hours of sales for resale; (3) 500 megawatt-hours of power exchanges delivered; or (4) 500 megawatt-hours of wheeling for others (deliveries plus losses).²

² As detailed in 18 CFR 101 (Uniform System of Accounts Prescribed for Public Utilities and Licensees Subject to the Provision of the Federal Power Act, General Instructions) and 18 CFR 141.1.

The FERC Form No.1 is designed to collect financial and operational information and is made available to the public. The FERC Form No.1 includes a basic set of financial statements:

• Comparative Balance Sheet,

• Statement of Income,

• Statement of Retained Earnings,

• Statement of Cash Flows,

• Statements of Accumulated Comprehensive Income,

• Comprehensive Income, and Hedging Activities, and

• Notes to Financial Statements.

Supporting schedules contain:

• Supplementary information and outlines of corporate structure and governance,

• Information on formula rates, and

• Description of important changes during the year.

Other schedules provide:

• Information on revenues and the related quantities of electric sales and electricity transmitted,

• Account balances for all electric operation and maintenance expenses,

• Selected plant cost data, and

• Other statistical information.

Type of Respondent: Major electric utilities

Estimate of Annual Burden ³: The Commission estimates the annual burden and cost ⁴ for FERC Form No. 1 as follows:

³ Burden is defined as the total time, effort, or financial resources expended by persons to generate, maintain, retain, or disclose or provide information to or for a Federal agency. For further explanation of what is included in the information collection burden, refer to Title 5 Code of Federal Regulations 1320.3.

⁴ The Commission staff believes the FERC FTE (full-time equivalent) average cost for wages plus benefits is representative of the corresponding cost for the industry respondents. The FERC 2018 average salary plus benefits for one FERC FTE is $164,820/year (or $79.00/hour).

FERC Form No. 1
Number of respondents | Number of responses per respondent | Total number of responses | Average burden hours and average cost per response ($) | Total annual burden hours and total annual cost ($) | Cost per respondent ($)
(1) | (2) | (1) × (2) = (3) | (4) | (3) × (4) = (5) | (5) ÷ (1) = (6)
207 | 1 | 207 | 1,168 hrs.; $92,272 | 241,776 hrs.; $19,100,304 | $92,272

FERC Form No. 1-F, Annual Report for Nonmajor Public Utilities and Licensees

OMB Control No.: 1902-0029.

Abstract: The FERC Form No. 1-F is a financial and operating report submitted annually for electric rate regulation, market oversight analysis, and financial audits by Nonmajor electric utilities and licensees. Nonmajor is defined as utilities and licensees that are not classified as Major, and having total sales in each of the last three consecutive years of 10,000 megawatt-hours or more.⁵

⁵ As detailed in 18 CFR 101 (Uniform System of Accounts Prescribed for Public Utilities and Licensees Subject to the Provision of the Federal Power Act, General Instructions) and 18 CFR 141.2.

The FERC Form No.1-F is designed to collect financial and operational information and is made available to the public. The FERC Form No.1-F includes a basic set of financial statements:

• Comparative Balance Sheet,

• Statement of Retained Earnings,

• Statement of Cash Flows,

• Statement of Comprehensive Income and Hedging Activities, and

• Notes to Financial Statements.

Supporting schedules contain:

• Supplementary information and include revenues and the related quantities of electric sales and electricity transmitted,

• Account balances for all electric operation and maintenance expenses,

• Selected plant cost data; and

• Other statistical information.

Type of Respondent: Nonmajor electric utilities

Estimate of Annual Burden: The estimated annual burden and cost follow. (The estimated hourly cost used for the FERC Form No. 1-F is $79 (for wages plus benefits) and is described above, under the FERC Form No. 1.):

FERC Form No. 1-F
Number of respondents | Annual number of responses per respondent | Total number of responses | Average burden hours and cost per response | Total annual burden hours and total annual cost ($) | Cost per respondent ($)
(1) | (2) | (1) * (2) = (3) | (4) | (3) * (4) = (5) | (5) ÷ (1)
5 | 1 | 5 | 122 hrs.; $9,638 | 610 hrs.; $48,190 | $9,638

FERC Form No. 3-Q, Quarterly Financial Report of Electric Utilities, Licensees, and Natural Gas Companies

OMB Control No.: 1902-0205.

Abstract: The FERC Form No. 3-Q is a quarterly financial and operating report for rate regulation, market oversight analysis, and financial audits which supplements the (a) FERC Form Nos. 1 and 1-F, for the electric industry, or the (b) FERC Form No. 2 (Annual Report for Major Natural Gas Companies; OMB Control No. 1902-0028) and FERC Form No. 2-A (Annual Report for Nonmajor Natural Gas Companies; OMB Control No. 1902-0030), for the natural gas industry. The FERC Form No. 3-Q is submitted for all Major and Nonmajor electric utilities, licensees, and natural gas companies.⁶

⁶ 18 CFR 260.1(b) states that for natural gas companies as defined by the Natural Gas Act, Major pertains to a company whose combined gas transported or stored for a fee exceed 50 million Dth in each of the three previous calendar years. 18 CFR 260.2(b) states that for natural gas companies as defined by the Natural Gas Act, Non-Major pertains to a company not meeting the filing threshold for FERC Form No. 2, but having total gas sales or volume transactions exceeding 200,000 Dth in each of the three previous calendar years.

FERC Form No. 3-Q includes a basic set of financial statements:

• Comparative Balance Sheet,

• Statement of Income and Statement of Retained Earnings,

• Statement of Cash Flows,

• Statement of Comprehensive Income and Hedging Activities, and

• Supporting schedules containing supplementary information.

Electric respondents report:

• Revenues and the related quantities of electric sales and electricity transmitted,

• Account balances for all electric operation and maintenance expenses,

• Selected plant cost data; and

• Other statistical information.

Natural gas respondents include:

• Monthly and quarterly quantities of gas transported and associated revenues,

• Storage, terminaling and processing services,

• Natural gas customer accounts and details of service, and

• Operational expenses, depreciation, depletion and amortization of gas plant.

Type of Respondent: Major and nonmajor electric utilities, licensees, and natural gas companies.

Estimate of Annual Burden: The estimated annual burden and cost (as rounded) follow. (The estimated hourly cost used for the FERC Form No. 3-Q is $79 (for wages plus benefits) and is described above, under the FERC Form No. 1.):

FERC Form No. 3-Q
| Number of respondents | Annual number of responses per respondent | Total number of responses | Average burden hours and cost per response | Total annual burden hours and total annual cost | Annual cost per respondent ($)
| (1) | (2) | (1) * (2) = (3) | (4) | (3) * (4) = (5) | (5) ÷ (1)
FERC 3-Q (electric) | 212 | 3 | 636 | 168 hrs.; $13,272 | 106,848 hrs.; $8,440,992 | $39,816
FERC 3-Q (natural gas) | 165 | 3 | 495 | 167 hrs.; $13,193 | 82,665 hrs.; $6,530,535 | $39,579
Total for FERC 3-Q |  |  | 1,131 |  | 189,513 hrs.; $14,971,527. |

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

Dated: April 30, 2019.
Kimberly D. Bose,
Secretary.

[FR Doc. 2019-09297 Filed 5-6-19; 8:45 am]

BILLING CODE 6717-01-P